DEPARTMENT OF THE TREASURY

Submission for OMB Review; Comment Request

April 15, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before May 25, 2005 to be assured of consideration.

Departmental Offices/Community Development Financial Institution (CDFI) Fund

OMB Number: 1559-0005.

Form Numbers: CDFI-0002.

Type of Review: Reinstatement.

Title: Bank Enterprise Award Program FY 2005—FY 2006 Application.

Description: The BEA Program provides incentives to insured depository institutions to increase their support of CDFIs and their activities in economically distressed communities.

Respondents: Business or other for-profit, Not-for-profit institutions.

Estimated Number of Respondents: 65.

Estimated Burden Hours Per Respondent: 15 hours.

Frequency of Response: Annually.

Estimated Total Reporting Burden: 975 hours.

Clearance Officer: Lois K. Holland, (202) 622-1563, Departmental Offices, Room 11000, 1750 Pennsylvania Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 05-8234 Filed 4-22-05; 8:45 am]

BILLING CODE 4811-16-P